DEPARTMENT OF STATE

[Public Notice: 11393]

Designations of Russian Entities and Individuals

ACTION: Notice of Designation of Five Russian Entities and two Russian Individuals Pursuant to Executive Order 13382.

SUMMARY: Pursuant to the authority in the Executive Order “Blocking Property of Weapons of Mass Destruction Proliferators and Their Supporters,” the State Department, in consultation with the Secretary of the Treasury and the Attorney General, has determined that FEDERAL SECURITY SERVICE, STATE SCIENTIFIC RESEARCH INSTITUTE OF ORGANIC CHEMISTRY AND TECHNOLOGY, 33RD SCIENTIFIC RESEARCH AND TESTING INSTITUTE, the 27TH SCIENTIFIC CENTER, the MAIN INTELLIGENCE DIRECTORATE, ALEXANDER YEVGENIYEVICH MISHKIN, and ANATOLIY VLADIMIROVI CHEPIGA engaged, or attempted to engage, in activities or transactions that have materially contributed to, or pose a risk of materially contributing to, the proliferation of weapons of mass destruction or their means of delivery (including missiles capable of delivering such weapons), including any efforts to manufacture, acquire, possess, develop, transport, transfer or use such items, by Russia.

DATES: The designation of these persons was effective on March 2, 2021.

FOR FURTHER INFORMATION CONTACT: Office of Counterproliferation Initiatives, Bureau of International Security and Nonproliferation, Department of State, Washington, DC 20520, tel.: 202-736-7065.

SUPPLEMENTARY INFORMATION: On June 28, 2005, the President, invoking the authority, inter alia, of the International Emergency Economic Powers Act (50 U.S.C. 1701-1706) (“IEEPA”), issued Executive Order 13382 (70 CFR 38567, July 1, 2005) (the “Order”), effective at 12:01 a.m. eastern daylight time on June 30, 2005. In the Order the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery, including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

As a result of this action, pursuant to the authority in section 1(a)(ii) of Executive Order 13382, all property and interests in property of aforementioned seven persons that are in the United States, or that hereafter come within the United States or that are or hereafter come within the possession or control of United States persons are blocked and may not be transferred, paid, exported, withdrawn, or otherwise dealt in.

Information on the designees:

ENTITY 1

ENTITY: FEDERAL SECURITY SERVICE

ENTITY AKA: FEDERALNAYA SLUZHBA BEZOPASNOSTI

ENTITY AKA: FSB

ENTITY ADDRESS: ULITSA KUZNETSKIY MOST, DOM 22, MOSCOW, RUSSIA, POSTAL CODE 107031

ENTITY ADDRESS: LUBYANSKAYA PLOSCHAD, DOM 2, MOSCOW, RUSSIA, POSTAL CODE 107031

ENTITY 2

ENTITY: STATE SCIENTIFIC RESEARCH INSTITUTE OF ORGANIC CHEMISTRY AND TECHNOLOGY

ENTITY AKA: GOSNIIOKHT

ENTITY ADDRESS: SHOSSE ENTUZIASTOV 23, MOSCOW, MOSCOW OBLAST, RUSSIA

ENTITY 3

ENTITY: 33RD SCIENTIFIC RESEARCH AND TESTING INSTITUTE

ENTITY AKA: 33RD TSNIII

ENTITY ADDRESS: 1 ULITSA KRASNOZNAMENNAYA, VOLSK-18/SHIKHANY, SARATOV OBLAST, RUSSIA

ENTITY 4

ENTITY: 27TH SCIENTIFIC CENTER

ENTITY AKA: 27TH NTS

ADDRESS: BRIGADIRSKIY PEREULOK 13, 105005, MOSCOW, RUSSIA

COUNTRY: RUSSIA

ENTITY 5

ENTITY: MAIN INTELLIGENCE DIRECTORATE

ENTITY AKA: GLAVNOE RAZVEDYVATEL'NOE UPRAVLENIE

ENTITY AKA: GRU

ENTITY AKA: MAIN INTELLIGENCE DEPARTMENT

ENTITY AKA: MAIN DIRECTORATE OF THE GENERAL STAFF

ENTITY ADDRESS: KHOROSHEVSKOYE SHOSSE 76, KHODINKA, MOSCOW, RUSSIA

ENTITY ADDRESS: MINISTRY OF DEFENCE OF THE RUSSIAN FEDERATION, FRUNZENSKAYA NAB., 22/2, MOSCOW, RUSSIA, POSTAL CODE 119160

COUNTRY: RUSSIA

INDIVIDUAL 1

INDIVIDUAL: ALEXANDER YEVGENIYEVICH MISHKIN

INDIVIDUAL AKA: ALEXANDER PETROV

INDIVIDUAL GENDER: MALE

INDIVIDUAL DATE OF BIRTH: JULY 13, 1979

PLACE OF BIRTH: LOYGA, RUSSIA; KOTLAS, RUSSIA

NATIONALITY: RUSSIA

INDIVIDUAL 2

INDIVIDUAL: ANATOLIY VLADIMIROVICH CHEPIGA

INDIVIDUAL AKA: RUSLAN BOSHIROV

GENDER: MALE

DATE OF BIRTH: APRIL 5, 1979; APRIL 12, 1978;

PLACE OF BIRTH: NIKOLAEVKA, AMUR OBLAST, RUSSIA; DUSHANBE, TAJIKISTAN

ADDRESS: MOSCOW, RUSSIA

NATIONALITY: RUSSIA

Gonzalo O. Suarez,
Acting Deputy Assistant Secretary, International Security and Nonproliferation, Department of State.

[FR Doc. 2021-07619 Filed 4-14-21; 8:45 am]

BILLING CODE 4710-27-P